DEPARTMENT OF THE INTERIOR

Bureau of Land Management

[OR-957-00-6334-bj: GP07-0026]

Filing of Plats of Survey: Oregon/Washington

AGENCY: U.S. Department of the Interior, Bureau of Land Management.

ACTION: Notice.

SUMMARY: The plats of survey of the following described lands were officially filed in the Bureau of Land Management Oregon/Washington State Office, Portland, Oregon, on September 28, 2006.

Willamette Meridian

Washington

T. 24 N., R. 8 E., accepted July 19, 2006.

T. 9 N., R. 11 W., accepted July 19, 2006.

T. 39 N., R. 30 E., accepted August 11, 2006.

T. 38 N., R. 38 E., accepted August 11, 2006.

T. 33 N., R. 32 E., accepted August 11, 2006.

T. 38 N., R. 33 E., accepted August 18, 2006.

T. 39 N., R. 33 E., accepted August 18, 2006.

The plats of survey of the following described lands were officially filed in the Bureau of Land Management Oregon/Washington State Office, Portland, Oregon, on October 23, 2006.

Willamette Meridian

Oregon

T. 38 S., R. 2 E., accepted September 12, 2006.

T. 38 S., R. 5 E., accepted September 12, 2006.

Willamette Meridian

Washington

T. 21 N., R. 12 W., accepted September 29, 2006.

T. 29 N., R. 39 E., accepted September 29, 2006.

T. 28 N., R. 39 E., accepted September 29, 2006.

T. 33 N., R. 36 E., accepted September 29, 2006.

T. 37 N., R. 37 E., accepted September 29, 2006.

T. 29 N., R. 36 E., accepted September 29, 2006.

The plat of survey of the following described lands is scheduled to be officially filed in the Bureau of Land Management Oregon/Washington State Office, Portland, Oregon, 30 days from the date of this publication.

Willamette Meridian

Oregon

T. 37 S., R. 1 W., accepted November 9, 2006.

A copy of the plats may be obtained from the Land Office at the Oregon/Washington State Office, Bureau of Land Management, 333 S.W. 1st Avenue, Portland, Oregon 97204, upon required payment. A person or party who wishes to protest against a survey must file a notice that they wish to protest (at the above address) with the Oregon/Washington State Director, Bureau of Land Management, Portland, Oregon.

FOR FURTHER INFORMATION CONTACT: Chief, Branch of Geographic Sciences, Bureau of Land Management, (333 SW. 1st Avenue) P.O. Box 2965, Portland, Oregon 97208.

Dated: November 21, 2006.
Fred O'Ferrall,
Branch of Lands and Minerals Resources.

[FR Doc. E6-20586 Filed 12-5-06; 8:45 am]

BILLING CODE 4310-33-P